DEPARTMENT OF ENERGY

Federal Energy Regulatory Commission

Notice of Filing

September 27, 2005.

In the matter of: ER00-3562-003, ER03-341-002, ER03-342-002, ER03-838-003, ER04-1081-001, ER04-1080-001, ER03-209-002, ER03-36-004, ER99-2858-008, ER05-48-001, ER05-1266-001, ER05-817-001, ER05-818-001, ER05-819-001, ER05-820-001, ER02-1319-004, ER04-831-002, ER04-832-002, ER00-1115-003, ER03-446-002, ER02-1959-003, ER04-1099-001, ER04-1100-001, ER01-2688-008, ER02-2227-004, ER02-600-006, ER02-2229-003, ER03-24-003, ER05-67-001, ER05-68-001, ER99-1983-003, ER03-290-002; Calpine Energy Services, L.P., Calpine PowerAmerica-OR, LLC, Calpine PowerAmerica-CA, LLC, Power Contract Financing, L.L.C., PCF, LLC, Calpine Energy Management, L.P., CES Marketing V, L.P., Calpine Northbrook Energy Marketing, LLC, MEP Pleasant Hill, LLC, Calpine Bethpage 3, LLC, Ontelaunee Power Operating Company, LLC, Calpine Merchant Services Company, Inc., CES Marketing VIII, LLC, CES Marketing IX, LLC, CES Marketing X, LLC, Zion Energy, LLC, Calpine Newark, LLC, Calpine Parline, LLC, Calpine Construction Finance Company, L.P., Calpine Philadelphia, Inc., CPN Bethpage 3rd Turbine, Inc., Bethpage Energy center 3, LLC, TBG Cogen Partners, Gilroy Energy Center, LLC, Creed Energy Center, LLC, Delta Energy Center, LLC, Goose Haven Energy Center, LLC, Los Esteros Critical Energy Facility, LLC, Metcalf Energy Center, LLC, Pastoria Energy Facility L.L.C., Geysers Power Company, LLC, Calpine California Equipment Finance Company, LLC.

Take notice that on September 9, 2005, Calpine Energy Services, L.P. (CES) and each of its above referenced affiliated public utilities (collectively, Filing Entities), files a change in status in compliance with Commission Order No. 652 issued February 10, 2005, 111 FERC ¶ 61,413 (2005).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 11, 2005.

Magalie R. Salas,
Secretary.

[FR Doc. E5-5397 Filed 9-30-05; 8:45 am]

BILLING CODE 6717-01-P